DEPARTMENT OF THE TREASURY

Departmental Offices; Proposed Collection; Comment Request

ACTION: Notice and request for comments.

SUMMARY: In accordance with the Paperwork Reduction Act of 1995, Public Law 104-13 (44 U.S.C. 3506(c)(2)(A)), this notice invites the general public and other public agencies to comment on a proposed information collection for which approval from the Office of Management and Budget (OMB) will be requested. The proposed collection would be an extension of a currently approved collection under OMB No. 1505-0218.

DATES: Written comments must be received on or before July 5, 2011 to be assured of consideration.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; (d) ways to minimize the burden of the collection of information on those who are to respond, including the use of appropriate automated, electronic, mechanical, or other technological collection techniques or other forms of information technology, and (e) estimates of capital or start-up costs and costs of operation, maintenance, and purchase of services to provide information.

Comments may be sent by e-mail to 1602Reports@treasury.gov. Responses to this notice will be summarized and included in the request for OMB approval and will also become a matter of public record.

FOR FURTHER INFORMATION CONTACT: Requests for additional information or copies of the information collection should be directed 1602Reports@treasury.gov or by contacting Jean Whaley, Department of the Treasury, 1500 Pennsylvania Ave., NW., Rm. 2045, Washington, DC 20220; (202) 622-0637.

SUPPLEMENTARY INFORMATION:

OMB Number: 1505-0218.

Title: Grants to States for Low-Income Housing Projects in lieu of Tax Credits.

Type of Review: Extension.

Abstract: Authorized under the American Recovery and Reinvestment Act (ARRA) (Pub. L. 111-5), the Department of the Treasury implemented several provisions of the Act, more specifically Division B—Tax, Unemployment, Health, State Fiscal Relief, and Other Provisions. Among these components is a program which requires Treasury to make payments, in lieu of a tax credit, to state housing credit agencies. State housing credit agencies use the funds to make subawards to finance the construction or acquisition and rehabilitation of qualified low-income buildings. The collection of information is necessary to properly monitor compliance with program requirements.

Affected Public: State and Local Governments.

Estimated Number of Respondents: 55.

Estimated Total Annual Responses: 114.

Hours Per Response: 0.50.

Total Annual Burden Hours: 57.

Dawn D. Wolfgang,
Treasury PRA Clearance Officer.

[FR Doc. 2011-11077 Filed 5-5-11; 8:45 am]

BILLING CODE 4810-25-P